DEPARTMENT OF TRANSPORTATION

Pipeline and Hazardous Materials Safety Administration

Office of Hazardous Materials Safety; Notice of Actions on Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR part 107, subpart B), notice is hereby given of the actions on special permits applications in (July to July 2015). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on August 5, 2015.
Donald Burger,
Chief, General Approvals and Permits.

S.P. No. | Applicant | Regulation(s) | Nature of special permit thereof
MODIFICATION SPECIAL PERMIT GRANTED
11666-M | SGL Carbon, LLC (SGL), Charlotte, NC | 49 CFR 173.240(6) | To modify the special permit to authorize green graphite products being shipped on open flat-bed trailers to be secured with plastic bandings.
10232-M | ITW Sexton, Decatur, AL | 49 CFR 173.304(d) and 173.306(a)(3) | To modify the special permit to authorize an additional hazardous material and limited quanity authorized.
14848-M | Corning Incorporated, Corning, NY | 49 CFR 172.202, 172.301, 172.400, 172.504 and 177.834(h) | To modify the special permit by incorporating the provisions of systems authorized under DOT-SP 14274 and DOT-SP 13107 so that it is a stand alone special permit.
15583-M | Northern Air Cargo Inc., Anchorage, AK | 49 CFR 172.101 Column (9B) | To modify the special permit by adding the following paragraph in 7.(g)(3) “or alternatively—FAA-assigned Principal Operations or Maintenance Program”.
15747-M | United Parcel Service, Inc., Atlanta, GA | 49 CFR 177.817(a), 177.817.(e), 172.606(b), and 172.203(a) | To modify the special permit to authorize marking on two sides of certain trailers.
14349-M | Matheson Tri-Gas, Basking Ridge, NJ | 49 CFR 173.3(d)(2)(ii) | To modify the special permit to authorize additional hazardous materials to be transported in a salvage cylinder.
16333-M | Liberty Industrial Gases & Welding Supply Inc., Brooklyn, NY | 49 CFR 171.2(e) and 177.801 | To modify the special permit originally issued on an emergency basis to authorize an additional two years.
16340-M | Praxair Distribution Mid-Atlantic, LLC, Newark, NJ | 49 CFR 171.2 and 177.801 | To reissue the special the permit that was originally issued on an emergency basis with a 2 year renewal.
EMERGENCY SPECIAL PERMIT GRANTED
15515-M | National Aeronautics and Space Administration (NASA), Houston, TX | 49 CFR 173.302a, 173.301(f)(1), 173.301(h)(3), 173.302(f)(2), and 173.302(f)(4) | To authorize an active PRD and add operational controls to authorized an alternative to the requirement for a rigid outer packaging. (modes 1, 2, 3, 4).
15999-M | National Aeronautics and Space Administration (NASA), Washington, DC | 49 CFR part 172 and 173 | To modify the special permit by adding a Class 8 material (modes 1, 3).
16513-N | U.S. Department of Justice, Bureau of Alcohol, Tobacco, Firearms and Explosives (ATF), Washington, DC | 49 CFR 173.56(b), and 172.320 | An emergency special permit to authorize the one-way transportation in commerce of unapproved fireworks for use in a research testing project. (mode 1).
16528-N | Worthington Cylinder Corporation, Columbus, OH | 49 CFR 173.301(a)(9) | To authorize the transportation in commerce of certain DOT Specification 39 cylinders in strong outer packagings without marking each package with an indication that the inner packagings conform to the prescribed specifications. (mode 1).
16533-N | National Air Cargo Group Inc., Orlando, FL | 49 CFR 172.101 Column (9B), 172.204(c)(3), (173.27, and 175.30(a)(1) | To authorize the transportation in commerce of certain explosives that are forbidden for transportation by cargo only aircraft. (mode 4).
16529-N | Kallita Air, LLC, Ypsilanti, MI | 49 CFR 172.101 Hazardous Materials Table Column (9B), 172.204(c)(3), 173.27(6)(2) and (3) and 175.30(a)(1) | To authorize the transportation in commerce of Ammonia, anhydrous in alternative packaging (heat pipes). (mode 4).
16534-N | National Air Cargo Group Inc., Orlando, FL | 49 CFR 172.101 Column (9B), 172.204(c)(3), 173.27, and 175.30(a)(1) | To authorize the transportation in commerce of certain explosives that are forbidden for transportation by cargo only aircraft. (mode 4).
16531-N | NVIDIA Corporation, Santa Clara, CA | 49 CFR 173.185(c)(3); 173.185(f) | To authorize the transportation in commerce of lithium batteries in non-DOT specification packaging (mode 1).
NEW SPECIAL PERMIT GRANTED
16190-N | Digital Wave Corporation, Centennial, CO | 49 CFR 180.205(g) | To authorize the transportation in commerce of certain composite overwrapped cylinders that have been alternatively pressure tested. (modes 1, 2, 3, 4, 5).
16198-N | Fleischmatars Vinegar Company, Inc., Cerritos, CA | 49 CFR 172.300; 172.400; 172.700; 174.55; 177.834; 173.30; 173.31(d) | To authorize the transportation in commerce of vinegar solution in bulk without certain hazardous communication requirements by highway and rail. (modes 1,2).
16365-N | RDS Manufacturing, Inc., Perry, FL | 49 CFR 177.834(h), 178.7(c)(1) | To authorize the manufacture, mark, sale and use of non-DOT specification aluminum tanks with capacities not exceeding 95 gallons. Additionally, discharge of Class 3 hazardous materials from the tanks without removing them from the vehicle on which they are transported is authorized. (mode 1).
16372-N | Northrop Grumman Systems Corporation, Redondo Beach, CA | 49 CFR 173.301(1), 173.302a(a)(1), 173.304a(a)(2) | To authorize the transportation in commerce of non-DOT specification containers known as heat pipes containing anhydrous ammonia and/or pulse tube coolers containing helium. (mode 1).
MODIFICATION SPECIAL PERMIT WITHDRAWN
11650-M | Autoliv ASP, Inc., Ogden, UT | 49 CFR 173.301(a)(1) and 173.302a(a) | To modify the special permit to authorize an increase in maximum service pressure.
NEW SPECIAL PERMIT WITHDRAWN
16424-N | Cimarron Composites, LLC, Huntsville, AL | 49 CFR 173.302a | To authorize the manufacture, mark, sale and use of a non-DOT specification fully wrapped fiber reinforced composite gas cylinders with a non-load sharing plastic liner that meets the ISO 11119-3 standard except for the design water capacity and working pressure. (modes 1, 2, 3).
DENIED
14146-M | Request by Brunswick Corporation Lake Forest, IL July 02, 2015.

To modify the special permit to allow more than 120 ml of flammable liquid fuel to remain in the engine and an exemption from the IMDG Code under Special Provision 961.

[FR Doc. 2015-20481 Filed 8-25-15; 8:45 am]

BILLING CODE 4909-60-M